NUCLEAR REGULATORY COMMISSION

[Docket No. 070-3103; NRC-2013-0044]

URENCO USA, Uranium Enrichment Facility

AGENCY: U.S. Nuclear Regulatory Commission.

ACTION: Environmental assessment and finding of no significant impact; issuance.

SUMMARY: The U.S. Nuclear Regulatory Commission (NRC) is considering approval of the URENCO USA (UUSA) license amendment request 12-10 (LAR-12-10) that would authorize capacity expansion of the UUSA enrichment facility near Eunice, New Mexico. In addition the NRC is considering approval of related UUSA license amendment requests that would authorize increases in the mass possession limits for natural, depleted, and enriched uranium; and would authorize use of a modified enrichment process to utilize depleted uranium as the feed material.

DATES: The environmental assessment and finding of no significant impact referenced in this document is available on March 19, 2015.

ADDRESSES: Please refer to Docket ID NRC-2013-0044 when contacting the NRC about the availability of information regarding this document. You may obtain publicly-available information related to this document using any of the following methods:

• Federal Rulemaking Web site: Go to http://www.regulations.gov and search for Docket ID NRC-2013-0044. Address questions about NRC dockets to Ms. Carol Gallagher; telephone: 301-415-3463; email: Carol.Gallagher@nrc.gov. For technical questions, contact the individual listed in the FOR FURTHER INFORMATION CONTACT section of this document.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced in this document (if that document is available in ADAMS) is provided the first time that a document is referenced.

• NRC's PDR: You may examine and purchase copies of public documents at the NRC's PDR, Room O1-F21, One White Flint North, 11555 Rockville Pike, Rockville, Maryland 20852.

FOR FURTHER INFORMATION CONTACT: Asimios Malliakos, Office of Nuclear Material Safety and Safeguards, U.S. Nuclear Regulatory Commission, Washington, DC 20555-0001; telephone: 301-415-6458; email: Asimios.Malliakos@nrc.gov.

SUPPLEMENTARY INFORMATION:

I. Introduction

The NRC is considering approval of the UUSA LAR-12-10 (a publicly-available version is available in ADAMS under Accession No. ML12319A591), and UUSA's supplemental license amendment request (ADAMS Accession No. ML14171A092). The NRC's approval would authorize capacity expansion of the UUSA enrichment facility that operates near Eunice, New Mexico. LAR-12-10 and the supplemental request were submitted by URENCO USA (formerly Louisiana Energy Services, LLC), requesting amendment of its special nuclear material (SNM) License SNM-2010, under which UUSA operates its gas centrifuge uranium enrichment facility. The NRC's approval would increase the authorized mass possession limits for natural, depleted, and enriched uranium, and would authorize use of a modified enrichment process to utilize depleted uranium as the feed material. The NRC staff has prepared an Environmental Assessment (EA) (ADAMS Accession No. ML15072A016) of the proposed actions, in accordance with the requirements in Part 51 of Title 10 of the Code of Federal Regulations (10 CFR). Both LAR-12-10 and UUSA's June 2014, supplemental license amendment request were considered in the EA prepared by the NRC staff.

The NRC staff's safety evaluation of the proposed actions will be documented in a separate Safety Evaluation Report (SER). If the proposed actions are approved, the NRC will issue to UUSA an amended SNM-2010 license following the publication of this notice, and the amended license will be made publicly available.

II. Environmental Assessment

On September 10, 2012, UUSA submitted an Environmental Report (ER) (ADAMS Accession Nos. ML12262A539 and ML12262A540) that forms a basis for the NRC's EA of the proposed actions. On November 9, 2012, UUSA submitted the associated LAR-12-10 to expand the production capacity of the UUSA facility. Subsequent to LAR-12-10, UUSA submitted a supplemental license amendment request on June 17, 2014. The June 2014 submittal requested an increase in the authorized mass possession limits for natural, depleted, and enriched uranium. In addition, the June 2014 submittal requested authorization to use a modified enrichment process that would utilize depleted uranium instead of natural uranium as the feed material.

The NRC staff has assessed the potential environmental impacts associated with the 2012 and 2014 license amendment requests, as well as the no action alternative, and has documented the results in the EA. The NRC staff performed its environmental review in accordance with the requirements in 10 CFR part 51. In addition to the ER, the NRC staff also considered information received from a request for additional information (RAI); communications with the New Mexico State Historic Preservation Office (SHPO); the New Mexico Department of Game and Fish; information gathered from an NRC site visit; consultation with Native American Tribes, local governments and agencies officials; as well as information from independent analysis.

In the EA, the NRC staff evaluated the potential environmental impacts of the proposed action and the no action alternative on the affected environment. The resource areas evaluated include: land use; historical and cultural resources; visual and scenic resources; climatology, meteorology, and air quality; geology, minerals, and soils; water resources; ecological resources; socioeconomics; environmental justice; noise; transportation; public and occupational health and safety; and waste management.

Additionally, the NRC staff analyzed the potential cumulative impacts from past, present, and reasonably foreseeable future actions when combined with the environmental impacts from the proposed action. The NRC staff concluded that there would not be significant adverse cumulative impacts to any resource area.

Based on its review of the proposed action relative to the requirements set forth in 10 CFR part 51, the NRC staff has determined that the amendment to NRC License SNM-2010, authorizing capacity expansion of UUSA's uranium enrichment facility near Eunice, New Mexico, would not significantly affect the quality of the human environment.

III. Finding of No Significant Impact (FONSI)

Based on its review of the proposed action, in accordance with the requirements in 10 CFR part 51, the NRC staff has concluded that the proposed action will not have a significant effect on the quality of the human environment. Accordingly, the NRC has determined not to prepare an environmental impact statement for the proposed action.

Dated at Rockville, Maryland, this 13th day of March, 2015.
For the Nuclear Regulatory Commission.
Marissa G. Bailey,
Director, Division of Fuel Cycle Safety, Safeguards, and Environmental Review, Office of Nuclear Material Safety, and Safeguards.

[FR Doc. 2015-06334 Filed 3-18-15; 8:45 am]

BILLING CODE 7590-01-P